DEPARTMENT OF TRANSPORTATION

Federal Aviation Administration

14 CFR Part 39

[Docket No. FAA-2012-0804; Directorate Identifier 2012-NM-094-AD; Amendment 39-17316; AD 2013-01-02]

RIN 2120-AA64

Airworthiness Directives; The Boeing Company Airplanes

AGENCY: Federal Aviation Administration (FAA), DOT.

ACTION: Final rule.

SUMMARY: We are superseding an existing airworthiness directive (AD) for certain The Boeing Company Model 747-100, 747-100B, 747-100B SUD, 747-200B, 747-200C, 747-200F, 747-300, 747-400, 747-400D, 747-400F, 747SR, and 747SP series airplanes; and certain Model 757-200, -200PF, and -300 series airplanes. That AD currently requires replacing the control switches of the forward, aft, and nose cargo doors of Model 747 airplanes; and requires replacing the control switches of cargo doors 1 and 2 of Model 757 series airplanes. This new AD adds airplanes to the applicability and revises the initial compliance times for those airplanes. This AD was prompted by reports of problems associated with the uncommanded operation of cargo doors. We are issuing this AD to prevent injuries to persons and damage to the airplane and equipment.

DATES: This AD is effective February 22, 2013.

The Director of the Federal Register approved the incorporation by reference of a certain publication listed in the AD as of February 22, 2013.

The Director of the Federal Register approved the incorporation by reference of certain other publications listed in this AD as of December 3, 2009 (74 FR 55763, October 29, 2009).

ADDRESSES: For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington 98057-3356. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Francis Smith, Aerospace Engineer, Cabin Safety & Environmental Systems Branch, ANM-150S, FAA, Seattle Aircraft Certification Office, 1601 Lind Avenue SW., Renton, Washington 98057-3356; phone: 425-917-6596; fax: 425-917-6590; email: francis.smith@faa.gov.

SUPPLEMENTARY INFORMATION:

Discussion

We issued a notice of proposed rulemaking (NPRM) to amend 14 CFR part 39 to supersede AD 2009-22-08, Amendment 39-16059 (74 FR 55763, October 29, 2009). That AD applies to the specified products. The NPRM published in the Federal Register on August 3, 2012 (77 FR 46343). That NPRM proposed to continue to require replacing the control switches of the forward, aft, and nose cargo doors of Model 747 airplanes; and the control switches of cargo doors 1 and 2 of Model 757 airplanes. That NPRM also proposed to add airplanes to the applicability and to revise the initial compliance times for those airplanes.

Comments

We gave the public the opportunity to participate in developing this AD. The following presents the comments received on the proposal (77 FR 46343, August 3, 2012) and the FAA's response to each comment.

Support for the NPRM (77 FR 46343, August 3, 2012)

Boeing supported the NPRM (77 FR 46343, August 3, 2012).

American Airlines found that the NPRM (77 FR 46343, August 3, 2012) would not require additional actions for its Model 757 fleet; therefore, American Airlines had no comments concerning the NPRM.

Request for Clarification of Proposed Compliance Times

Asiana Airlines requested that we clarify the compliance times specified in paragraph (g) of the NPRM (77 FR 46343, August 3, 2012). Specifically, Asiana Airlines requested clarification of the compliance times for Model 747 Groups 1 and 2 airplanes on which the door switches had been replaced before the effective date of AD 2009-22-08, Amendment 39-16059 (74 FR 55763, October 29, 2009), per Boeing Special Attention Service Bulletin 747-52-2286, dated September 28, 2007; and on which the certificate of airworthiness had been issued long before 72 months after the effective date of AD 2009-22-08.

We agree to provide clarification. Paragraph (g)(1) of this AD restates the compliance time from AD 2009-22-08, Amendment 39-16059 (74 FR 55763, October 29, 2009) for Groups 1 and 2 Model 747 airplanes identified in Boeing Special Attention Service Bulletin 747-52-2286, Revision 1, dated October 28, 2010. If an operator has already replaced the switches before the effective date of this AD in accordance with either Boeing Special Attention Service Bulletin 747-52-2286, dated September 28, 2007; or Boeing Special Attention Service Bulletin 747-52-2286, Revision 1, dated October 28, 2010; then no further action is necessary for compliance with paragraph (g) of this AD. No change to this AD is necessary.

Explanation of Change Made to This AD

We have added new paragraph (i)(3) to this final rule to allow delegation of repairs to the Boeing Commercial Airplanes Organization Designation Authorization (ODA). We have re-identified subsequent paragraphs accordingly.

Conclusion

We reviewed the relevant data, considered the comments received, and determined that air safety and the public interest require adopting the AD with the change described previously—and minor editorial changes. We have determined that these minor changes:

• Are consistent with the intent that was proposed in the NPRM (77 FR 46343, August 3, 2012) for correcting the unsafe condition; and

• Do not add any additional burden upon the public than was already proposed in the NPRM (77 FR 46343, August 3, 2012).

Costs of Compliance

We estimate that this AD affects 225 airplanes of U.S. registry.

We estimate the following costs to comply with this AD:

Estimated Costs
Action | Labor cost | Parts cost | Cost per product | Number of airplanes | Cost on U.S. operators
Replacement [retained from existing AD 2009-22-08, Amendment 39-16059 (74 FR 55763, October 29, 2009)] | Up to 5 work-hours × $85 per hour = $425 | $195 | Up to $620 | 221 | Up to $137,020.
Replacement [new action for added airplanes] | 5 work-hours × $85 per hour = $425 | 195 | $620 | 4 | $2,480.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-22-08, Amendment 39-16059 (74 FR 55763, October 29, 2009), and adding the following new AD:

2013-01-02 The Boeing Company: Amendment 39-17316; Docket No. FAA-2012-0804; Directorate Identifier 2012-NM-094-AD.

(a) Effective Date

This airworthiness directive (AD) is effective February 22, 2013.

(b) Affected ADs

This AD supersedes AD 2009-22-08, Amendment 39-16059 (74 FR 55763, October 29, 2009).

(c) Applicability

This AD applies to The Boeing Company Model 747-100, 747-100B, 747-100B SUD, 747-200B, 747-200C, 747-200F, 747-300, 747-400, 747-400D, 747-400F, 747SR, and 747SP series airplanes, certificated in any category, as identified in Boeing Special Attention Service Bulletin 747-52-2286, Revision 1, dated October 28, 2010; and Model 757-200, -200PF, and -300 series airplanes, certificated in any category, as indentified in Boeing Special Attention Service Bulletin 757-52-0090, dated September 21, 2007.

(d) Subject

Joint Aircraft System Component (JASC)/Air Transport Association (ATA) of America Code 52, Doors.

(e) Unsafe Condition

This AD was prompted by reports of problems associated with the uncommanded operation of cargo doors. We are issuing this AD to prevent injuries to persons and damage to the airplane and equipment.

(f) Compliance

Comply with this AD within the compliance times specified, unless already done.

(g) Retained Replacement

This paragraph restates the requirements of paragraph (f) of AD 2009-22-08, Amendment 39-16059 (74 FR 55763, October 29, 2009), with revised compliance times and service information. Replace the control switches, as specified in paragraph (g)(1) or (g)(2) of this AD, as applicable. Repeat the replacements thereafter at intervals not to exceed 72 months.

(1) For Groups 1 and 2 Model 747 airplanes identified in Boeing Special Attention Service Bulletin 747-52-2286, Revision 1, dated October 28, 2010: Within 24 months after December 3, 2009 (the effective date of AD 2009-22-08, Amendment 39-16059 (74 FR 55763, October 29, 2009)), or within 72 months from the date of issuance of the original certificate of airworthiness or the original export certificate of airworthiness, whichever occurs later, replace the control switches of the forward, aft, and nose cargo doors, in accordance with the Accomplishment Instructions of Boeing Special Attention Service Bulletin 747-52-2286, dated September 28, 2007; or Boeing Special Attention Service Bulletin 747-52-2286, Revision 1, dated October 28, 2010. As of the effective date of this AD, use only Boeing Special Attention Service Bulletin 747-52-2286, Revision 1, dated October 28, 2010, to do the actions specified in this paragraph.

(2) For Model 757 series airplanes: Within 24 months after December 3, 2009 (the effective date of AD 2009-22-08, Amendment 39-16059 (74 FR 55763, October 29, 2009)), replace the control switches of cargo doors 1 and 2, in accordance with the Accomplishment Instructions of Boeing Special Attention Service Bulletin 757-52-0090, dated September 21, 2007.

(h) New Replacement

For Group 3 airplanes identified in Boeing Special Attention Service Bulletin 747-52-2286, Revision 1, dated October 28, 2010: Within 72 months from the date of issuance of the original certificate of airworthiness or the original export certificate of airworthiness, or within 12 months after the effective date of this AD, whichever occurs later, replace the control switches of the forward, aft, and nose cargo doors, as applicable, in accordance with the Accomplishment Instructions of Boeing Special Attention Service Bulletin 747-52-2286, Revision 1, dated October 28, 2010. Repeat the replacements thereafter at intervals not to exceed 72 months.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved previously in accordance with AD 2009-22-08, Amendment 39-16059 (74 FR 55763, October 29, 2009), are approved as AMOCs for the corresponding provisions of this AD.

(j) Related Information

For more information about this AD, contact Francis Smith, Aerospace Engineer, Cabin Safety & Environmental Systems Branch, ANM-150S, FAA, Seattle Aircraft Certification Office, 1601 Lind Avenue SW., Renton, Washington 98057-3356; phone: 425-917-6596; fax: 425-917-6590; email: francis.smith@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on February 22, 2013.

(i) Boeing Special Attention Service Bulletin 747-52-2286, Revision 1, dated October 28, 2010.

(ii) Reserved.

(4) The following service information was approved for IBR on December 3, 2009 (74 FR 55763, October 29, 2009).

(i) Boeing Special Attention Service Bulletin 747-52-2286, dated September 28, 2007.

(ii) Boeing Special Attention Service Bulletin 757-52-0090, dated September 21, 2007.

(5) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at FAA, 1601 Lind Avenue SW., Renton, Washington 98057-3356. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on January 4, 2013.
Kalene C. Yanamura,
Acting Manager, Transport Airplane Directorate, Aircraft Certification Service.

[FR Doc. 2013-00559 Filed 1-17-13; 8:45 am]

BILLING CODE 4910-13-P